DEPARTMENT OF DEFENSE

Department of the Navy

Record of Decision for Navy Air-to-Ground Training at Avon Park Air Force Range, Florida

AGENCY: Department of the Navy, DOD.

ACTION: Notice of record of decision.

SUMMARY: The Department of the Navy announces its decision to conduct all components of “air-to-ground ordnance delivery and training” of integrated and sustainment levels of the Fleet Forces Command's Fleet Readiness Training Program at Avon Park Air Force Range, Florida. Air-to-ground readiness training includes delivery of inert and high-explosive ordnance from tactical jets such as the Navy's Hornet and Super Hornet strike/fighter aircraft.

FOR FURTHER INFORMATION CONTACT: Mr. Will Sloger, Southern Division Naval Facilities Engineering Command (Code ES12), 2155 Eagle Drive, North Charleston, SC 29406, telephone 843-820-5797.

SUPPLEMENTARY INFORMATION: The text of the entire Record of Decision (ROD) is provided as follows: Pursuant to section 102(2)(c) of the National Environmental Policy Act (NEPA) of 1969, 42 U.S.C. 4332(2)(c), and the regulations of the Council on Environmental Quality that implement NEPA procedures, 40 CFR parts 1500-1508, the Department of the Navy announces its decision to conduct all components of “air-to-ground ordnance delivery and training” of the Fleet Forces Command's Fleet Readiness Training Program (FRTP) at Avon Park Air Force Range (APAFR). The proposed training at APAFR will be accomplished as set out in alternative 6, described in the Final Environmental Impact Statement (EIS) as the preferred alternative.

The Navy proposes to expand APAFR's capabilities to allow delivery of high explosive (HE) ordnance during air-to-ground ordnance delivery training, a critical element of FRTP. Training would originate from afloat Navy carrier strike groups (CSG) operating in either the Atlantic Ocean or the Gulf of Mexico. The purpose of the proposed action is to improve and enhance the number and location of range resources for the FRTP and, consequently, increase its flexibility to conduct training in preparation for deploying CSGs in support of national defense missions. Section 5062 of Title 10 of the United States Code directs the Chief of Naval Operations to organize, train, and equip Naval forces for combat. To fulfill its statutory mission, the Atlantic Fleet needs combat-capable air forces ready to deploy worldwide.

Three FRTP training exercises are typically conducted annually. Depending on world conditions and military requirements, up to six exercises could occur within a given year. At APAFR, each exercise would be expected to use the range for 20 days (10 days for exercise activities, seven days for explosive ordnance disposal [EOD] sweeps, plus a three-day backup).

As part of training conducted during the various phases of the FRTP, the Navy would continue its use of APAFR and other ranges near the Atlantic and the Gulf of Mexico such as the Navy ranges at Rodman, FL and Lake George, FL; the Marine Corps ranges at Townsend, GA (operated by the Georgia Army National Guard), and Cherry Point, NC; the Mississippi National Guard range at Camp Shelby, MS; and the Air Force range at Dare County, NC for delivery of inert ordnance, and the Air Force's Eglin and Navy's Pinecastle Ranges for both inert and HE deliveries.

The Air Force worked with the Navy as a cooperating agency throughout the NEPA process. They will, as the owner of APAFR, make a decision regarding the Navy's desire to conduct all components of air-to-ground ordnance delivery there. The Air Force intends to document that decision in their own ROD, to be signed after the Navy signs this document.

The Navy used a screening process to identify potential range locations to support and enhance flexibility in executing the FRTP. The first step was to identify the range parameters needed to achieve the proposed improvement and enhancement (number and location) of range resources in support of FRTP aircrew training. These parameters are: (1) Time/distance from CSG operating areas to the range, (2) range dimensions, and (3) airspace.

Initially the Navy identified nine candidate ranges for conducting all components of air-to-ground training exercises associated with the FRTP. Two of the candidate ranges, Pinecastle and Eglin, were eliminated from further consideration as candidates as use of HE ordnance already occurs at these ranges and therefore not serve to improve or enhance range availability for FRTP. Of the seven remaining ranges, six (Rodman, Lake George, Townsend, Dare County, Camp Shelby, Cherry Point) have inadequate range dimensions and therefore failed to meet one of the three training parameters. APAFR was the only range that met all three parameters. The Navy also evaluated other potential options including alternative training technologies (e.g., models/simulators), development of a new range, and use of only inert/practice ordnance. These options did not meet the purpose and need of the aircrew training enhancement objectives because they do not create the same high-stress training environment and/or emotional conditioning required for combat deployment overseas.

A Draft and Final EIS were prepared to assess the impacts of six alternatives within APAFR. Each of these six alternatives provides for a different mix in the use of HE ordnance on the Foxtrot, Echo, Alpha, and Alpha Plus target areas within the APAFR. The comparative analysis of the six alternatives was accomplished by first evaluating elements common to all alternatives and then evaluating the impacts associated with use of HE ordnance. The EIS also evaluated the no-action alternative of not expanding Navy's use of APAFR for delivery of HE ordnance.

Public Involvement: Public involvement was effected through a public and agency scoping process from February through March 2003 that included publication of a Notice of Intent to prepare the EIS in the Federal Register and three scoping meetings to actively solicit input from the public, local governments, Federal and State agencies, and environmental groups; An Interagency and Intergovernmental Coordination for Environmental Planning (IICEP) and Agency consultation; a 45-day public comment period that included public hearings in three locations in central Florida to provide an opportunity for the public to evaluate the proposal and analyses contained in the Draft EIS; and a 30-day no action period to allow public review of the Final EIS.

The Final EIS included identification of the preferred alternative, mitigation measures to reduce environmental consequences, errata, and public and agency comments on the Draft EIS and responses to those comments.

Alternatives Analyzed: Six air-to-ground training alternatives within APAFR were identified and carried forward for detailed analyses in the EIS. Each of the six alternatives provided a different mix in the use of proposed HE targets on Foxtrot, Echo, Alpha, and Alpha Plus allowable target placement areas (ATPA) for HE training.

The proposed action also includes common elements that would be implemented along with the selected air-to-ground HE ordnance alternative. The common elements include delivery of air-to-ground inert/practice munitions on existing targets in the Bravo, Foxtrot, Charlie, and Echo impact areas at APAFR. Some training not involving air-to-ground deliveries (e.g. combat search-and-rescue) would occur outside the impact areas. The common elements and the locations where training would occur, while consistent with existing training activities at APAFR, would represent an increase in the amount of Navy training occurring at APAFR.

The Navy used an operational risk management analysis (ORMA) to assess the risks associated with the use of HE ordnance and to identify, evaluate, and recommend control measures that would be needed to limit or deny access to particular parts of the APAFR hazard area in conjunction with HE ordnance air-to-ground training. The Air Force, as the owner of APAFR, determined the necessary control measures based on the ORMA recommendations and other factors such as feasibility, security, and cost. Control measures, which will be incorporated into APAFR's supplement to Air Force Instruction 13-212, Range Planning and Operations, include: access restrictions, mandatory EOD escort, and geographic limitations on civilian activities such as hunting/fishing, grazing, and camping. These measures will reduce potential risks to all personnel who work on or visit APAFR.

The Navy and the Air Force identified alternative six, use of Alpha Plus, as the preferred alternative in the Draft and Final EIS. The Alpha Plus range consists of the existing Alpha range and an additional 612 acres (248 hectares) in Management Unit 6 to the north of Alpha, an area that has been closed to the public since 1996. Within the Alpha Plus range, an allowable target placement area (ATPA) has been defined with a 300-foot perimeter buffer zone to account for the overall accuracy of non-guided and guided delivery ordnance. The environmentally preferred alternative is alternative five, use of the Alpha range only for HE ordnance. However, alternative five, due to its modest dimensions and limited ability to support target development and placement, limits training and operational flexibility. The preferred alternative would have slightly greater impact than the environmentally preferred alternative in the following areas: Noise, earth resources, water resources, land use and recreation, biological resources, environmental justice, and military activities. The no-action alternative would have the least potential for adverse environmental consequences.

The location of the Alpha Plus ATPA in the center of APAFR reduces the effect of training on the natural and human environment both on and off the base. The most noticeable effect off-base is noise.

Decision: After considering the potential environmental consequences of the Preferred Alternative, the five alternative training scenarios, and the no-action alternative, as well as other factors related to national defense, the Navy has decided to implement the Preferred Alternative to expand live ordnance air-to-ground training capabilities at APAFR utilizing the Alpha Plus Range. This action will also improve and enhance the Atlantic Fleet's depth of range resources and increase its flexibility to conduct training. The 1,162 acres (420 ha) within the Alpha Plus Range provide substantial target diversity options to maximize training benefits to Navy pilots. The size of Alpha Plus ensures that adequate room is available, based on training requirements, for a sufficient number of targets and for proper separation distance between targets. Adequate room is also available for future target relocation based on training requirements.

Consequences: In the EIS, the Navy analyzed the environmental impacts that could occur as a result of implementing the common elements combined with each of the six APAFR alternatives. This Record of Decision will focus on the impacts associated with the preferred alternative, use of Alpha Plus. The EIS analyzed environmental impacts and the potential magnitude of those impacts relative to 13 categories of environmental resources: Airspace, noise, range safety, earth resources, water resources, air quality, land use and recreation, biological resources, socioeconomics, cultural resources, environmental justice, hazardous waste and materials, and military activities. Annual use of APAFR by the Navy for integrated and sustainment training would vary depending on, among other things, the availability of other East Coast ranges for training. To account for that variability, the impact analysis in the EIS considers both typical (three exercises) and maximum (six exercises) annual use.

A discussion of those resource categories where the potential for significant impacts was identified or that were the subject of substantial comments follows.

Airspace: Overall use of the designated altitude reservation airspace blocks and Restricted Airspace on APAFR would increase during any Navy exercise, but maximum use of any specific airspace element at one time would not exceed airspace capacity or the ability of controllers to manage the traffic. No changes to airspace would be required for implementation. No adverse impacts to the airspace use and management are anticipated.

Noise: The noise exposure level on the ground at APAFR will be affected by aircraft operations in the Military Operating Areas (MOAs) and Restricted Airspace, and air-to-ground ordnance deliveries. The Federal Aviation Administration, other federal agencies, the Air Force, and the Navy identify the day/night average noise level (DNL) 65-dBA contour as a threshold level above which human exposure to aircraft noise may cause a significant impact. Noise generated from aircraft sorties in the MOAs and Restricted Airspace would not exceed the DNL 65-dBA.

Impulsive sounds such as a muzzle blast at a firing point (>62 dBC) would remain within the boundaries of the range, impacting only a very small area of the east clear zone for the runway at the main base, for noise generated from the firing of projectiles from weapons and the detonation of HE ordnance.

The associated overpressure that accompanies the detonation of HE is measured as blast peak overpressure (dBP). The U.S. Department of Labor, Occupational Safety and Health Administration, has identified 140 dBP as the maximum recommended unprotected exposure level necessary to prevent physiological damage to the human eardrum; the 130- and 140-dBP contours would be largely confined to the impact areas or just beyond. The 115-decibel (dBP) peak noise contour from HE detention would extend over the main base and off range, approximately 22,420 acres (9,073ha). Within the affected area, a low to moderate risk of noise complaints could be expected.

Range Safety: There would be minimal increases in the risk of bird/aircraft strikes; the risk of Class A aircraft mishaps due to increased operations would be relatively unchanged. Ground safety risks remain minimal. All weapon safety footprints (hazard areas) for delivered ordnance would remain within the range boundaries. There would be minimal risk to the public, since they will be precluded from the hazard areas during the exercise, and from areas designated as “off-limits” permanently. Military and civilian employees and contractors would have EOD escorts when entering designated off-limits areas.

Earth Resources: Soils could be disturbed due to target construction, target maintenance, ordnance impacts, ordnance disposal activities, new road and scoring tower construction, upgrades to roads, and road maintenance. The maximum area of soil disturbance, over the life of the action, in the ATPA and buffer zone would be approximately 1,351 acres (547 ha). Removal of vegetation would be limited within the target area. Disking of soil within a target area would occur only for tactical representation.

The Seasonal Soil Compartment Model (SESOIL model) was utilized to calculate the potential for soil contaminant concentrations based on typical and maximum possible usage over a 10-year period that could result from HE ordnance detonations in Alpha Plus and expenditure of small arms rounds and 20-millimeter (mm) cannon munitions at Echo and Foxtrot ranges. Small arms rounds and 20mm cannon munitions at Echo and Foxtrot ranges are the only component of the common elements that could result in the deposition of munitions constituents of concern in soils. Other munitions (e.g., practice bombs) would be cleared from the impact areas on a regular basis and are not expected to adversely contribute to hazardous constituent levels in soils. The estimated concentrations of munitions constituents of concern in soil predicted by the SESOIL model do not exceed Florida's risk based soil cleanup target levels (SCTLs).

Use of HE ordnance could result in deposition of munitions constituents of concern in soil, including metals and explosives constituents. Under the typical and maximum-use scenarios, estimated munitions constituent concentrations are below industrial direct exposure SCTLs. Cyclo-1,3,5-trimethylene-2,4,6-trinitramine (RDX) and 2,4,6-trinitrotuluene (TNT) are the only munitions constituents of concern predicted to exceed groundwater leachability-based SCTLs. Estimated concentrations of metal constituents are not expected to exceed leachability-based SCTLs. Estimated concentrations of aluminum are expected to exceed the soil screening benchmark (SSB) range in certain soil types. Under maximum conditions chromium is expected to exceed the lower end of the SSB range for certain soil types.

Water Resources: No increase in flood hazard is expected as less than 1% of the 100-year floodplain area at APAFR would be impacted. The proposed action is consistent with the mandate of Executive Order (EO) 11988. Target locations and associated construction will avoid wetlands; therefore no permit is presently required in accordance with EO 11990. There is a potential that use of HE could impact wetlands in the future resulting from alteration of hydrology from the displacement/disturbance of soil from direct ordnance delivery activities. The level of impact to wetland areas described in the EIS could occur over a several decade period if the Navy moved targets around within the ATPA to those parts currently identified as wetlands. The reported number of acres impacted assumes that all wetland areas within the ATPA and associated 300-foot buffers would be impacted. The maximum number of acres of wetlands potentially impacted would be 482 acres (195 ha). (The wetland delineation used to determine that acreage was based on photogrametric interpretation, not actual field surveys.) A 2005 wetland delineation of specific portions of the Alpha Plus ATPA, using the methodology established in the Corps of Engineers Wetlands Delineation Manual, indicates the number of acres impacted may be overestimated. There are no plans to move the targets and the Navy would conduct the proper analysis and possible permitting if target movement is required.

Values predicted by the Summers model equation for computing time-varying pollutant concentrations in the aquifer beneath the area of contaminated soil to predict constituents levels in groundwater, as modeled for a 10-year period, are not expected to exceed background concentrations for the small arms/20mm range activities. Maximum-modeled values of lead concentrations deposited to surface water for the common elements are estimated to be well below the surface water ecological screening criteria established for lead by both the FDEP and the U.S. Environmental Protection Agency (USEPA). Comparisons of predicted lead deposition in bottom sediments of water bodies to values presented in the Florida Sediment Quality Assessment Guidelines for inland waters indicates no ecological concern associated with the lead concentration in sediments.

Concentrations of RDX and TNT, from use of HE ordnance, were calculated in surface runoff using the highest soil concentration predicted by the SESOIL model. Predicted concentrations under both the typical- and maximum-use did not exceed the FDEP surface water quality clean-up target levels available for these constituents. RDX could potentially migrate through the soil column and into groundwater at concentrations above the cleanup target levels. No drinking water standard has been established for this constituent. Given that surficial groundwater at the site is not currently used as potable supply, as well as the low potential for contaminants to reach the underlying potable water supply because of confining layers and exercise coincident unexploded ordnance clearance activities, risk to human receptors from groundwater exposure will be minimal. Risk to ecological receptors from exposure to contaminants is expected to be negligible as ecological receptors are not typically exposed to groundwater.

Deposition of metal contaminates are not predicted to result in elevated surface water concentration. The results of the Summers model indicate that aluminum, chromium, or nickel from ordnance are not expected to leach to groundwater at levels that would exceed established FDEP groundwater criteria or standards in either the typical- or maximum-use scenarios. Although the predicted aluminum concentrations are higher than the Florida drinking water standard and groundwater cleanup target levels, the predicted value will not exceed the accepted background screening value established for APAFR.

Air Quality: Emissions from the common elements represent less than a 1% increase for all criteria pollutants, except lead. Lead emissions would increase 10% and 20% over baseline levels for typical and maximum use of the range, respectively. This increase will remain within the boundaries of APAFR. However, the impacts to air quality or to human health resulting from the increased lead emissions will be negligible because modeled lead concentrations were well below the National Ambient Air Quality Standards (NAAQS).

Use of HE will result in an 18% (typical) to 34% (maximum) increase in particulate matter equal to or less than 10 microns in diameter (PM10), and an insignificant increase (<1%) for other criteria pollutants, such as ozone, carbon monoxide, nitrogen dioxide, sulfur dioxide. The PM10 emission increases over the baseline do not require a new air permit. The increases represent less than 1% of the PM10 emissions for either Polk or Highlands Counties. Emissions of chromium and nickel pollutants will be negligible; therefore, on-range and off-range chemical exposures pose an insignificant impact to air quality or human health.

Since APAFR is in attainment for all criteria pollutants and implementation of the preferred alternative would not cause an exceedance of the NAAQS, a conformity determination is not required.

Land Use and Recreation: Approximately 22,420 acres (9,073 ha) outside APAFR boundaries would be impacted by the 115-dBP impulsive noise contour from HE detonation, including 150 residences. The entire on-base cantonment area, including the State of Florida Department of Corrections operated Avon Park Correctional Institution (1200-1300 inmates) and the Avon Park Youth Academy (200 youths), would be exposed to impulsive noise levels, that is the instantaneous sound generated by an explosion, greater than 115 dBP only when HE ordnance is expended during an exercise. Off-base land surrounding the range predominately support agriculture, rangeland, forestry, and wetlands. Ordnance noise increases are not expected to impact land use patterns, ownership, management, or plans and are not considered significant. A low to moderate risk of noise complaints is expected from the use of HE.

Current land use within APAFR will be impacted by the proposed action. Short-term (60 to 120 days per year) impacts include the closure of a portion of or all areas of APAFR outside the main base during Navy training exercises. Long-term impacts include access restrictions to military, civilian employees, APAFR contractors, and the public for safety reasons within designated areas. Approximately 4,561 total acres (1,824 ha) will be designated off-limits for public users of the range. Access restrictions will affect APAFR's recreation, grazing, and forest management and other land management programs. All access decisions, both short-term and long-term, will be subject to the discretion of the APAFR Commander based on the ORMA, current training requirements, and past training activities.

Biological Resources: Construction and maintenance of targets and use of the ATPAs will, over time, result in the degradation or loss of wildlife habitats. The primary impacts would be to the cutthroat grass and scrub communities. 369 acres (148 ha) of cutthroat grass community and 343 acres (137 ha) of scrub community will potentially be impacted. Timber, including planted pines and natural stands, will be harvested by APAFR within the public off-limits areas before the implementation of the proposed action. The total number of acres of timber to be impacted will be 2,388 acres; of that 1,970 acres are planted pine and 418 acres natural stand. Planned removal of planted pine stands will provide some potential ecological benefits related to habitat improvement to the Florida grasshopper sparrow (FGS) and Florida scrub-jay (FSJ) when the timber is removed.

Effects to the 14 species listed under the Endangered Species Act that may occur or are known to occur at APAFR are addressed in the Biological Opinion (BO) issued by the U.S. Fish And Wildlife Service (USFWS) in June 2005. Two plant species, hairy jointweed (also known as wireweed) and pigeonwing, are federally listed as endangered and threatened, respectively, under the Endangered Species Act. Dropping HE at Alpha Plus may affect, and would be likely to adversely affect both the hairy jointweed and the pigeonwing.

Twelve listed animal species may occur or are known to occur in the vicinity of APAFR. The USFWS has concluded the Navy's proposed action will have “no effect” on: The Everglade snail kite, the sand skink, the bluetail mole skink, and the Highlands tiger beetle. USFWS also concluded alternative 6 “may affect, but is not likely to adversely affect” these species: Red-cockaded woodpecker, woodstork, Audubon's crested caracara, bald eagle, and the Florida panther.

USFWS reached a determination of “may affect, likely to adversely affect” for the following species: The eastern indigo snake, the Florida scrub-jay, and the Florida grasshopper sparrow. In an Incidental Take Statement to the BO, the USFWS authorized incidental take of these three species resulting from implementation of alternative 6.

No significant adverse impacts to migratory birds are expected from implementation of the proposed action. Declines in populations of game species (e.g., deer, feral hog, and mourning dove) at APAFR are not expected as a result of the Navy's action. Non-game species that are not afforded special protection by government (i.e., not federally and state-listed species) generally occur in populations able to tolerate localized declines. Local population declines, however, are not anticipated as a result of the Navy's proposed action at APAFR.

Socioeconomics: The proposed action will not substantially affect regional socioeconomics. APAFR runs a variety of public natural resource and recreation programs that earn income for the range and are linked to the regional economy. Reductions in the recreation, cattle-grazing, and timber harvesting programs at APAFR as a result of short-term and long-term access restrictions will be negligible when combined to the region as a whole. No significant adverse impact on the local economy and surrounding communities is anticipated.

Cultural Resources: The Navy performed Phase I field work for unsurveyed areas within the off-limits area. Compliance with section 106 of the National Historic Preservation Act (NHPA) was completed with a Memorandum of Agreement signed by the SHPO, Navy, and Air Force. Compliance efforts included consultation with the Florida SHPO and American Indian tribes; cultural resources inventory, and identification; and evaluation of identified resources for National Register of Historic Property (NRHP) eligibility. No impacts to cultural resources are expected.

Environmental Justice: Resource topics anticipated to have the greatest potential for impacts on human populations include noise, safety, and land use and recreation. Based on a review of the impacts, there will not be any disproportionately high or adverse impact on minority and low-income populations.

Hazardous Materials and Hazardous Waste Management: There will be an increase in the quantity of waste generated from target maintenance; however, expected increases will have minimal impact on the current waste management or disposal process. A premature/inaccurate ordnance release or a weapon system malfunction could result in HE ordnance accidentally landing on Environmental Restoration Program/Compliance Sites at APAFR. Range scrap/debris will be generated as a result of air-to-ground training and will be collected and removed on a scheduled basis.

Military Activities: On-ground military training activities will be permanently restricted from the 5,638 acres (2,282 ha) off-limits area. Remaining impact areas at Bravo/Foxtrot and Charlie/Echo will receive higher utilization because of the common element activities, but due to the existing low utilization (27% for each; 4,132 hours of remaining capacity) the impact areas will remain well below capacity. Therefore, the decrease in range time capacity will not jeopardize existing mission activities and additional training can be accomplished within on-ground safety limitations.

Agency Consultation and Coordination: The Navy.

The Navy consulted and coordinated with Federal and State agencies regarding the Proposed Action at APAFR throughout the Environmental Impact Analyses Process. Agencies reviewing biological and cultural resources were contacted early in the environmental planning process and received IICEP notification in February 2003. Formal section 7 consultation, in compliance with the Endangered Species Act, was initiated with the U.S. Fish and Wildlife Service (USFWS) in January 2005. The USFWS concluded formal consultation when it issued a Biological Opinion in June 2005 with a determination of effect to each of the 14 listed species that may occur or are known to occur at APAFR. By letter dated March 25, 2005, the State of Florida agreed that the Navy's proposed training is consistent with the Florida Coastal Management Program. Section 106 consultation was initiated with the Florida SHPO in April 2005, pursuant to the NHPA. Section 106 consultation was completed with the signing of a Memorandum of Agreement in August 2005.

Mitigation Measures: Measures to avoid or minimize environmental impact from the Navy's proposed training activities at APAFR were incorporated into the basic proposed action as noted in 40 CFR 1502.14. These include actions, described below, designed to achieve reductions in the effect Navy training has on APAFR and the local community.

Range Safety: The following mitigative actions will be taken to minimize safety risk: Provide EOD personnel to minimize adverse impacts associated with ground safety and explosive safety by escorting personnel into the Alpha Plus off-limits area, as necessary; use only impact fuses for delivery of HE ordnance; no use of HE ordnance between 10 pm and 7 am; live guided bomb unit (GBU) drops would be limited to official daylight hours.

Earth Resources: The following mitigative actions will be taken to minimize impacts to earth resources: Construct access roadways of materials resistant to erosion and rutting; monitor areas susceptible to erosion and rutting; limit vegetation clearing to only what is necessary to have tactically representative targets; limit soil disking to that required to support maintenance of targets and create firebreaks; use APAFR guidelines for erosion control.

Water Resources: The mitigative actions taken to protect water resources at APAFR would be all of those listed to protect earth resources.

Land Use and Recreation: The Navy will provide EOD personnel to minimize adverse impacts associated with ground safety and explosive safety by escorting personnel into the Alpha Plus off-limits area, as necessary. The Navy will provide advance notification of desired training periods to assist APAFR in scheduling range assets.

Biological Resources: The following mitigative actions (listed as Terms and Conditions in the BO) will be taken to reduce potential environmental consequences to biological resources:

Vehicle and equipment operators will be notified to avoid all snakes and burrows if at all possible. Target and construction maintenance teams will be educated to recognize the eastern indigo snake. If any snake is encountered, it will be avoided or allowed to leave the area on its own before vehicle or equipment use is resumed.

Range personnel will conduct monitoring and management activities within the ATPAs, buffers, and public off-limit areas, including those areas where EOD escort is required. In addition, because implementation of the proposed action would result in the continuous presence of EOD personnel on the range, APAFR staff may conduct research activities currently prohibited due to the lack of EOD personnel in the HE areas on Bravo and Echo Ranges.

Firebreaks will be in place around the entire Alpha Plus ATPA prior to the implementation of the Navy action.

The Navy will support the Air Force's invasive exotic species monitoring and control program within the ATPAs, buffers, and public off-limit areas.

The Navy will assist the Air Force in monitoring and control of the feral hog populations within the ATPA, buffers, and public off-limit areas.

The Navy will coordinate with the Air Force to ensure that annual reports summarizing efforts to monitor the effects to listed species and their habitats are submitted by October 1st of each year.

Upon locating a dead, injured, or sick individual of a federally listed species, notification must be made to the nearest USFWS Law Enforcement Office.

Socioeconomics: The Navy will provide EOD personnel to APAFR in an effort to minimize adverse impacts associated with reduced range access. No other mitigative actions are proposed.

Cultural Resources: To minimize adverse impacts to potential cultural resources, the Navy will, according to the Memorandum of Agreement, ensure that the following measure will be carried out in consultation with the SHPO: if the Navy encounters unanticipated historic properties or effects, reasonable efforts will be made to avoid, minimize, or mitigate adverse effects pursuant to 36 CFR 800.13(b).

Hazardous Materials and Hazardous Waste Management: To minimize the potential for detonation of HE ordnance on the OB/OD TTF site northeast of the Alpha impact area, but within the greater Alpha Plus ATPA, the Navy has been working with the FDEP and Air Force on the removal of the OB/OD landfill unit. The removal action will be completed prior to the first exercise. No other adverse impacts are expected, therefore, there are no recommended mitigative actions to reduce or eliminate environmental impacts from the proposed action.

Military Activities: The following mitigative actions will be taken to reduce potential impacts to military activities that are currently conducted on the range:

Each Navy HE training event will be conducted within a block of no more than 10 days.

All known unexploded ordnance (UXO) will be disposed of within seven days of the 10-day HE block of range time, with roads being cleared first.

Navy training exercises will be coordinated with other on-ground training missions, such as missions that are part of the Avon Park Air Ground Training Complex.

Comments Received on the Final EIS: The Navy received a single letter regarding the Final EIS during the 30-day No Action Period. The letter, from the USEPA, concluded that EPA's initial concerns regarding the Draft EIS had been adequately addressed in the Final EIS but continued to emphasize the need to ensure functional replacement for the wetlands' value lost from this action.

As previously discussed in the Water Resources subsection of the Consequences section, the Navy has chosen several target locations within the Alpha Plus ATPA for initial target placement. A wetland delineation was performed for the area encompassed by these locations. The USACOE concluded that no jurisdictional wetlands existed within these areas, therefore no permit is required under the Clean Water Action Section 404 permitting process. If in the future the Navy feels it needs to move target locations within the ATPA, it will ensure that the process for addressing impacts to wetlands is followed.

Navy also received a comment letter from the Florida State Clearinghouse after the 30-day No-Action Period ended, forwarding comments from the Florida Department of Environmental Protection (FDEP).

FDEP repeated two comments made during their earlier review of the Draft EIS. They requested an Environmental Monitoring Plan (EMP) to formally establish baseline water quality conditions, parameters, and annual reporting requirements. FDEP also reiterated prior concern about the former open burn/open detonation (OB/OD) site within the Alpha Plus area. A formal EMP is not necessary to assure compliance with applicable statutes.

Modeling and analysis done in support of the EIS indicated a small possibility of munitions constituents of concern making their way to the surficial aquifer but it is not anticipated to impact groundwater resources used for potable purposes. The Navy's assessment is based on a number of factors. While the modeling contains the assumption that no UXO cleanup would be done during a 10-year period of maximum use, the Navy has committed to completing UXO clearance after every exercise. Additionally, there is an intermediate aquifer that isolates the Floridan aquifer from the surficial aquifer. The Navy will also work closely with the Air Force to implement DoD Instruction (DODI) 4715.14. This instruction requires military ranges to assess whether a release of munitions constituents of concern has occurred off range and the risk to human health and the environment. When finished, the Air Force is required to release the results to the public.

The Navy, as stated earlier in this ROD, has committed to funding the removal of the OB/OD landfill units located in the Alpha Plus ATPA and is working with FDEP to ensure full compliance. Removal of this unit, which is the only RCRA permitted unit within the Alpha Plus ATPA, will be complete in 2006. Response actions regarding impacts to any of the environmental restoration program sites in APAFR resulting from Navy training activities, including an inadvertent impact of ordnance, would be coordinated with the EPA, the FDEP, and other relevant stakeholders.

Summary: In determining how best to expand APAFR's capabilities to allow the Navy to conduct all components of “air-to-ground ordnance delivery and training” of integrated and sustainment levels of the FRTP at the range, a critical element of which is delivery of HE ordnance, I considered impacts to the following areas: Airspace, noise, range safety, earth resources, water resources, air quality, land use and recreation, biological resources, socioeconomics, cultural resources, environmental justice, hazardous waste and materials, and military activities. I have also taken into consideration the Navy's consultation with the USFWS regarding endangered species, the SHPO regarding cultural resources, and the USACOE regarding wetlands. I have also considered the comments sent to the Navy by the regulatory community, state and local governments, and the public. After carefully weighing all of these factors, I have determined that alternative 6, use of the Alpha Plus range for HE air-to-ground ordnance delivery combined with the common element activities, will best meet the needs of the Navy while minimizing the environmental impacts associated with the re-introduction of HE ordnance to the APAFR.

Dated: June 21, 2006.
BJ Penn,
Assistant Secretary of the Navy (Installations and Environment).

[FR Doc. E6-10356 Filed 6-30-06; 8:45 am]

BILLING CODE 3810-FF-P